PENSION BENEFIT GUARANTY CORPORATION

29 CFR Parts 4000 and 4010

RIN 1212-AB01

Electronic filing—Annual Financial and Actuarial Information; Correction

AGENCY: Pension Benefit Guaranty Corporation.

ACTION: Proposed rule; correction.

SUMMARY: This document corrects inadvertent errors in two instructions in the regulatory text of a proposed rule published in the Federal Register on December 28, 2004 (69 FR 77679), regarding electronic filing of financial and actuarial information.

FOR FURTHER INFORMATION CONTACT: James L. Beller, Attorney, Pension Benefit Guaranty Corporation, Office of the General Counsel, Suite 340, 1200 K Street, NW., Washington, DC 20005-4026, 202-326-4024. (For TTY/TTD users, call the Federal relay service toll-free at 1-800-877-8339 and ask to be connected to 202-326-4024.)

Correction

In proposed rule FR doc 04-28398, beginning on page 77679 in the issue of December 28, 2004, make the following corrections to the regulatory text:

1. On page 77682, column 3, in the first line of instruction 4, correct “§ 4000.24” to read “4000.23” and, in the 8th line of instruction 4, correct “§ 4000.24 What if I mail my submission or issuance using the U.S. Postal Service?” to read “§ 4000.23 When is my submission or issuance treated as filed or issued?”.

2. On Page 77683, column 1, in the first line, correct paragraph (b)(3) of § 4000.23 to read as follows:

(b) * * *

(3) * * * A submission made through our Web site is considered to have been received when we receive an electronic signal that you have performed the last act necessary to indicate that your submission is filed and cannot be further edited or withdrawn.

* * * * *

3. On page 77684, column 3, in the 13th line of instruction 13, correct paragraph (b)(2) of § 4010.9 to read as follows:

* * * * *

(b) * * *

(2) For each controlled group member included in the consolidated financial statements (other than an exempt entity), the member's revenues and operating income for the information year, and net assets at the end of the information year.

* * * * *

Issued in Washington, DC, this 7th day of January, 2005.
Stuart A. Sirkin,
Director, Corporate Policy and Research Department, Pension Benefit Guaranty Corporation.

[FR Doc. 05-635 Filed 1-11-05; 8:45 am]

BILLING CODE 7708-01-P